DEPARTMENT OF HEALTH AND HUMAN SERVICES

Indian Health Service

[OMB No. 0917-0041]

Request for Public Comment: 30-Day Information Collection: Indian Health Service Information Security Ticketing and Incident Reporting.

AGENCY: Indian Health Service, HHS.

ACTION: Notice and request for comments. Request for extension of approval.

SUMMARY: In compliance with the Paperwork Reduction Act of 1995, the Indian Health Service (IHS) invites the general public to take this opportunity to comment on the information collection Office of Management and Budget (OMB) Control Number 0917-0041, titled, Information Security Ticketing and Incident Reporting. The purpose of this notice is to allow 30 days for public comment submitted directly to OMB. A copy of the draft supporting statement is available at www.regulations.gov (see Docket ID IHS_FRDOC_001).

DATES: Comment Due Date: May 31, 2022. Your comments regarding this information collection are best assured of having full effect if received within 30 days of the date of this publication.

ADDRESSES: Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett, Information Collection Clearance Officer at: Evonne.Bennett@ihs.gov or 301-443-4750.

SUPPLEMENTARY INFORMATION: This previously approved information collection project was last published in the Federal Register on February 17, 2022 (87 FR 9071), and allowed 60 days for public comment. No public comment was received in response to the notice. This notice announces our intent to submit this collection, which expires April 30, 2022, to OMB for approval of an extension, and to solicit comments on specific aspects for the proposed information collection.

Title: 0917-0041, “Information Security Ticketing and Incident Reporting.”

Form(s) and Form number(s): Incident Reporting Form, Form F07-02b.

OMB Control Number: 0917-0041.

Need and Use of Information Collection: This information collection activity provides a means for federal employees, Tribal employees, contractors, and other non-federal employees to report IHS information technology (IT) security and privacy incidents. This information collection has three purposes: To notify the CSIRT of an incident, provide updates about an open incident, and indicate resolution of an existing incident. The information collection furthers the IHS's ability to use secure IT, to enhance response time to IT incidents, and to maintain the agency's healthcare information security posture. This information collection also allows IHS to process privacy incidents and breaches within the IHS, in keeping with internal and external requirements.

Members of Affected Public: Federal employees, Tribal employees, contractors, and other non-federal employees accessing IHS IT systems.

Status of the Proposed Information Collection: Extension request.

Type of Respondents: Individuals.

The table below provides: Types of data collection instruments, estimation of the number of respondents, number of responses per respondent, annual number of responses, average burden hour per response, and total annual burden hours.

Data collection instrument(s) | Estimated number of respondents | Responses per respondent | Annual number of responses | Average burden hour per response * | Total annual burden hours
IHS Federal and Non-Federal Staff | 1700 | 1 | 1700 | 15/60 | 425
Total | 1700 | 1 | 1700 | 15/60 | 425
*For ease of understanding, the average burden per response is 15 minutes. There are no direct costs to respondents to report.

Requests for Comments: Your written comments and/or suggestions are invited on one or more of the following points:

(a) whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

Elizabeth A. Fowler,
Acting Director, Indian Health Service.

[FR Doc. 2022-09055 Filed 4-27-22; 8:45 am]

BILLING CODE 4165-16-P